DEPARTMENT OF STATE

[Public Notice 8015]

Designation of the Communist Party of Nepal (Maoist) as a Specially Designated Global Terrorist; In the Matter of the Designation of The Communist Party of Nepal (Maoist) Also Known as United Revolutionary People's Council Also Known as People's Liberation Army of Nepal Also Known as CPN(M) as a Specially Designated Global Terrorist Pursuant to Section 1(b) of Executive Order 13224, as Amended

Acting under the authority of Section 1(b) of Executive Order 13224 of September 23, 2001, as amended (“the Order”), I hereby revoke the designation of the entity known as the Communist Party of Nepal (Maoist), also known as United Revolutionary People's Council, also known as People's Liberation Army of Nepal, also known as CPN(M), as a Specially Designated Global Terrorist pursuant to Section 1(b) of the Order.

This notice shall be published in the Federal Register.

Dated: August 28, 2012.
Wendy R. Sherman,
Under Secretary of State for Political Affairs.

[FR Doc. 2012-21970 Filed 9-5-12; 8:45 am]

BILLING CODE 4710-10-P